DEPARTMENT OF LABOR

Employment and Training Administration

[TA-W-64,655]

Carolina Cargo Express, LLC, Forest City, North Carolina; Notice of Termination of Investigation

Pursuant to Section 221 of the Trade Act of 1974, as amended, an investigation was initiated on December 11, 2008, in response to a petition filed by a company official on behalf of a worker at Carolina Cargo Express, LLC, Forest City, North Carolina.

The petition has been withdrawn at the request of the petitioner. Consequently, the investigation has been terminated.

Signed at Washington, DC, this 12th day of December 2008.
Linda G. Poole,
Certifying Officer, Division of Trade Adjustment Assistance.

[FR Doc. E8-30913 Filed 12-29-08; 8:45 am]

BILLING CODE 4510-FN-P